DEPARTMENT OF HOMELAND SECURITY

Coast Guard

[USCG-2005-22541]

Merchant Mariner Credentials: Temporary Procedures

AGENCY: Coast Guard, DHS.

ACTION: Notice of extension of validity for merchant mariner credentials.

SUMMARY: On August 29, 2005, Hurricane Katrina devastated the coastlines of Alabama, Mississippi, and Louisiana. The Regional Examination Center (REC) at New Orleans, which provided credentialing services to approximately 29,000 mariners in those three states and 14 percent of mariners nationwide, was completely flooded, destroying vital records and equipment and rendering the facility inoperable for a considerable period of time. As a result, many mariners in the area are in possession of merchant mariner's documents, licenses and/or certificates of registry (collectively referred to as “credentials”) that either have expired or may expire before the Coast Guard will be able to process these mariners' applications for renewal or upgraded credentials. With the authority Congress has granted, the Coast Guard is temporarily extending the expiration dates for credentials of eligible mariners for up to one year.

DATES: This notice is effective August 16, 2006.

FOR FURTHER INFORMATION CONTACT: If you have any questions related to this notice, call Mr. Donald J. Kerlin, Deputy Director, Coast Guard National Maritime Center (NMC), Arlington, VA, (202) 493-1006.

SUPPLEMENTARY INFORMATION: Pursuant to section 702 of the Coast Guard and Maritime Transportation Act of 2006, Public Law 109-241, the Coast Guard is initiating temporary credentialing measures for merchant mariner's documents, licenses, and certificates of registry for individuals who meet the following conditions:

(1) If the individual is a resident of Alabama, Mississippi, or Louisiana, as confirmed by the Coast Guard's Merchant Mariner Licensing and Documentation system, or

(2) If the individual is a resident of any other State or Territory of the United States, and the records of the individual were—

(A) Located at the Coast Guard REC facility in New Orleans that was damaged by Hurricane Katrina; or

(B) Damaged or lost as a result of Hurricane Katrina.

A credential that shows that it was issued in New Orleans, LA, will be sufficient proof that the mariner's records were located at the Coast Guard REC facility in New Orleans for category (2)(A) above.

Because of its international treaty obligations under the International Convention on Standards of Training, Certification and Watchkeeping (STCW) for Seafarers, 1978, as amended, the United States may not extend STCW endorsements in this same manner. Mariners who require such an endorsement must obtain it through the normal procedures as provided in 46 CFR part 10 and 12.

The following measures are applicable to all eligible mariners whose credentials, including Coast Guard-issued duplicates of lost or damaged credentials, have expired, or will expire, during the period indicated within this Notice.

If a credential in a mariner's possession has expired or will expire between August 29, 2005, and April 1, 2007, and the credential indicates that either the mariner's home of record is in Alabama, Mississippi, or Louisiana, or that the credential was issued at New Orleans, LA, then that credential, together with a copy of this Notice, will serve as a valid credential until the Coast Guard issues the mariner a renewal or upgraded credential, or for one year from the original expiration date indicated on the credential in the mariner's possession, whichever occurs first.

A mariner who is a resident of any other State or Territory of the United States, and whose credential was issued at a location other than REC New Orleans and has expired or will expire between August 29, 2005, and April 1, 2007, and whose records were damaged or lost as a result of Hurricane Katrina, should contact any REC for the procedures to obtain official correspondence confirming that the mariner's credential remains valid until the Coast Guard issues the mariner a renewal or upgraded credential, or for one year from the original expiration date indicated on the credential in the mariner's possession, whichever occurs first.

In determining their eligibility for an extension of their credentials under this Notice, mariners are encouraged to seek assistance at REC New Orleans, or at any of the other REC's around the country, a list of which is available through the Internet at http://www.uscg.mil/hq/g-m/nmc/web/, and at 46 CFR 10.105 and 12.01-7.

Due to the amount of time it currently takes the Coast Guard to process applications, early application for renewal or upgrade will help ensure that mariners receive their renewal or upgraded credential prior to the expiration of the authorized extension. Mariners who visit an REC to obtain official correspondence confirming that the mariner's credential remains valid, or to conduct any other transaction involving a credential that is within one year of expiration, should apply for a renewal or upgraded credential at the same time.

Authority: Coast Guard and Maritime Transportation Act of 2006, Section 702, Public Law 109-241, 2006 H.R.889, 46 U.S.C. secs. 2103, 7101, 7106, 7107, 7302, 7501, and 7502, and Department of Homeland Security Delegation No. 0170.1.

Dated: August 11, 2006.
C.E. Bone,
Rear Admiral, U.S. Coast Guard, Assistant Commandant for Prevention.

[FR Doc. 06-6978 Filed 8-14-06; 11:11 am]

BILLING CODE 4910-15-P